DEPARTMENT OF TRANSPORTATION

Federal Aviation Administration

14 CFR Part 71

[Airspace Docket No. 02-ACE-8]

Proposed Establishment of Class E2 and Class E4 Airspace and Modification of Existing Class E5 Airspace; Ainsworth, NE

AGENCY: Federal Aviation Administration (FAA), DOT.

ACTION: Notice of proposed rulemaking.

SUMMARY: This notice proposes to establish Class E airspace designated as a surface area for Ainsworth Municipal Airport, NE; establish Class E airspace designated as an extension to Class E surface area at Ainsworth, NE; and modify Class E airspace extending upward from 700 feet above the surface of the earth at Ainsworth, NE. The FAA has developed Area Navigation (RNAV) Global Positioning System (GPS) Runway (RWY) 17 ORIGINAL Standard Instrument Approach Procedure (SIAP), RNAV (GPS) RWY 35 ORIGINAL SIAP, VHF Omni-directional Range (VOR) RWY 17 Amendment 3 SIAP and VOR RWY 35 Amendment 4 SIAP to serve Ainsworth Municipal Airport, NE. Class E surface area airspace, extensions to this Class E surface area airspace and additional controlled airspace extending upward from 700 feet Above Ground Level (AGL) are needed to protect instrument flight rules (IFR) operations at Ainsworth, NE. This Class E surface area, Class E surface area extensions and additional controlled airspace extending upward from 700 feet AGL will ensure that aircraft executing straight-in SIAPs to RWY 17 and RWY 35 remain within controlled airspace. Adoption of this proposal would result in establishing Class E surface area and extensions at Ainsworth Municipal Airport, NE and also result in additional Class E airspace extending upward from 700 feet at Ainsworth, NE.

DATES: Comments must be received on or before October 11, 2002.

ADDRESSES: Send comments on the proposal in triplicate to: Federal Aviation Administration, Air Traffic Division, Airspace Branch Manager, ACE-520, DOT Regional Headquarters Building, Docket Number 02-ACE-8, 901 Locust, Kansas City, MO 64106.

The official docket may be examined in the Office of the Regional Counsel for the Central Region at the same address between 9 a.m. and 3 p.m., Monday through Friday, except Federal holidays. An informal docket may also be examined during normal business hours in the Air Traffic Division at the same address listed above.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this notice must submit with those comments a self-addressed, stamped postcard on which the following statement is made: “Comments to Airspace Docket No. 02-ACE-8.” The postcard will be date/time stamped and returned to the commenter. All communications received on or before the specified closing date for comments will be considered before taking action on the proposed rule. The proposal contained in this notice may be changed in light of comments received. All comments submitted will be available for examination in the Rules Docket, FAA, Central Region, Office of the Regional Counsel, 901 Locust, Kansas City, Missouri, both before and after the closing date for comments. A report that summarizes each substantive-public contact with FAA personnel concerned with this rule making will be filed in the Rules Docket.

Availability of NPRMs

Any person may obtain a copy of this Notice of Proposed Rulemaking (NPRM) by submitting a request to the Federal Aviation Administration, Office of Public Affairs, Attention: Public Inquiry Center, APA-230, 800 Independence Avenue, SW., Washington, DC 20591, or by calling (202) 267-3484. Communications must identify the notice number of this NPRM. Persons interested in being placed on a mailing list for future NPRMs should also request a copy of Advisory Circular No. 11-2A, which describes the application procedure.

The Proposal

The FAA is considering an amendment to 14 CFR part 71 to establish Class E airspace designated as a surface area for Ainsworth Municipal Airport, NE; establish Class E airspace designated as an extension to Class E surface area at Ainsworth, NE; and modify Class E airspace extending upward from 700 feet above the surface of the earth at Ainsworth, NE.

This Class E airspace surface area, Class E airspace surface area extensions and additional controlled airspace extending upward from 700 feet AGL are needed to ensure that aircraft executing straight-in SIAPs to RWY 17 and RWY 35 remain within controlled airspace. The areas would be depicted on appropriate aeronautical charts. Class E airspace surface areas, Class E airspace surface area extensions and Class E airspace areas extending upward from 700 feet or more above the surface of the earth are published in paragraphs 6002, 6004 and 6005 respectively of FAA Order 7400.9J, dated August 31, 2001, and effective September 16, 2001, which is incorporated by reference in 14 CFR 71.1. The Class E airspace designations listed in this document would be published subsequently in the Order.

The FAA has determined that this proposed regulation only involves an established body of technical regulations for which frequent and routine amendments are necessary to keep them operationally current. Therefore, this proposed regulation—(1) is not a “significant regulatory action” under Executive Order 12866; (2) is not a “significant rule” under Department of Transportation (DOT) Regulatory Policies and Procedures (44 FR 11034, February 26, 1979); and (3) does not warrant preparation of a Regulatory Evaluation as the anticipated impact is so minimal. Since this is a routine matter that will only affect air traffic procedures and air navigation, it is certified that this proposed rule will not have a significant impact on a substantial number of small entities under the criteria of the Regulatory Flexibility Act.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, CLASS, B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9J Airspace Designations and Reporting Points, dated August 31, 2001, and effective September 16, 2001, is amended as follows:

Paragraph 6002 Class E Airspace Designated as Surface Areas.

* * * * *

ACE NE E2 Ainsworth, NE

Ainsworth Municipal Airport, NE

(Lat. 42°34′45″ N., long. 99°59′35″ W.)

Ainsworth VOR/DME

(Lat. 42°34′09″ N., long. 99°59′23″ W.)

Within a 4.3-mile radius of Ainsworth Municipal Airport.

* * * * *

Paragraph 6004 Class E Airspace Areas Designated as an Extension to a Class D or Class E Surface Area.

* * * * *

ACE NE E4 Ainsworth, NE

Ainsworth Municipal Airport, NE

(Lat. 42°34′45″ N., long. 99°59′35″ W.)

Ainsworth VOR/DME

(Lat. 42°34′09″ N., long. 99°59′23″ W.)

That airspace extending upward from the surface within 2.4 miles each side of the Ainsworth VOR/DME 197° radial extending from the 4.3-mile radius of Ainsworth Municipal Airport to 7 miles south of the airport; and within 2.4 miles each side of the Ainsworth VOR/DME 348° radial extending from the 4.3-mile radius of Ainsworth Municipal Airport to 7 miles north of the airport.

* * * * *

Paragraph 6005 Class E Airspace Areas Extending Upward from 700 feet or More Above the Surface of the Earth.

* * * * *

ACE NE 35 Ainsworth, NE [Revised]

Ainsworth Municipal Airport, NE

(Lat. 42°34′45″ N., long. 99°59′35″ W.)

Ainsworth VOR/DME

(Lat. 42°34′09″ N., long. 99°59′23″ W.)

That airspace extending upward from 700 feet above the surface within a 7.4-mile radius of Ainsworth Municipal Airport and within 3.9 miles each side of the 179° bearing from the airport extending from the 7.4-mile radius to 9.6 miles south of the airport.

* * * * *

Issued in Kansas City, MO, on August 9, 2002.
Paul J. Sheridan,
Acting Manager, Air Traffic Division, Central Region.

[FR Doc. 02-21576 Filed 8-22-02; 8:45 am]

BILLING CODE 4910-13-M